DEPARTMENT OF HEALTH AND HUMAN SERVICES

Administration for Community Living

Availability of Program Application Instructions for MIPPA Program Funds

Title: Medicare Improvements for Patients and Providers Act: State Applications for Medicare Low-Income Benefit Programs Enrollment Outreach and Assistance.

Announcement Type: Initial.

Funding Opportunity Numbers:

• CIP-MI-21-001—MIPPA Priority Area 1: SHIP 2021

• CIP-MI-21-002—MIPPA Priority Area 2: AAA 2021

• CIP-MI-21-003—MIPPA Priority Area 3: ADRC 2021

Statutory Authority: The Medicare Improvements for Patients and Providers Act of 2008, as amended by the Patient Protection and Affordable Care Act of 2010 and reauthorized by the American Taxpayer Relief Act of 2012 (ATRA), Protecting Access to Medicare Act of 2014, Medicare Access and CHIP Reauthorization Act of 2015, Bipartisan Budget Act of 2018, Coronavirus Aid, Relief, and Economic Security Act of 2020, and Consolidated Appropriations Act of 2021.

Catalog of Federal Domestic Assistance (CFDA) Number: 93.071.

DATES: The deadline date for the submission of MIPPA Program State Plans is 11:59 p.m. EST June 1, 2021.

Funding Opportunity Description

The Medicare Improvement for Patients and Providers Act (MIPPA) program supports states through grants to provide outreach and assistance to Medicare beneficiaries with limited incomes and assets to ensure the beneficiaries have access to all Medicare related benefits available to them. MIPPA state grantees help educate Medicare beneficiaries about benefit programs that help them pay for Medicare including the Low-Income Subsidy (LIS) program for Medicare Part D and the Medicare Savings Programs (MSPs). In addition, MIPPA grantees provide education on Medicare Preventive Services. MIPPA grantees provide education through public outreach while also providing one-on-one assistance to eligible Medicare beneficiaries to help them access and apply for benefit programs that help lower the costs of their Medicare premiums and deductibles.

MIPPA state funding is limited to agencies eligible for MIPPA funding:

• Priority Area 1—State Health Insurance Assistance Program (SHIP): State agencies (State Units on Aging or State Departments of Insurance) that administer the SHIP

• Priority Area 2—Area Agencies on Aging (AAAs): State agencies for AAAs

• Priority Area 3—Aging and Disability Resource Center Programs (ADRC): Agencies that are established ADRCs who have received an ACL ADRC COVID grant

ACL will accept only one application for each Priority Area per state. If an agency is eligible for more than one MIPPA Priority Area, the agency may combine their responses into one comprehensive narrative which can be submitted to each Priority Area application. However, unique budget documents and full application packages for each Priority Area must still be completed and submitted for each application.

These funds will allow agencies to provide enhanced outreach to eligible Medicare beneficiaries regarding their preventive, wellness, and limited income benefits; application assistance to individuals who may be eligible for LIS or MSPs; and outreach activities covering LIS, MSP, or aimed at preventing disease and promoting wellness. Applicant plans should go above and beyond those regular activities planned in response to other funding sources.

II. Award Information

1. Funding Instrument Type

These awards will be made in the form of grants to agencies for each MIPPA Priority Area:

Priority Area 1—SHIP: Grants to state agencies (State Units on Aging or State Departments of Insurance) that administer the SHIP to provide enhanced outreach to eligible Medicare beneficiaries regarding their preventive, wellness, and limited income benefits; application assistance to individuals who may be eligible for LIS or MSPs; and outreach activities aimed at preventing disease and promoting wellness.

Priority Area 2—AAA: Grants to state agencies for AAA programs to provide enhanced outreach to eligible Medicare beneficiaries regarding their preventive, wellness, and limited income benefits; application assistance to individuals who may be eligible for LIS or MSPs; and outreach activities aimed at preventing disease and promoting wellness.

Priority Area 3—ADRC: Aging and Disability Resource Center Programs (ADRC): Grants to agencies that are established ADRCs to provide outreach regarding Medicare Part D benefits related to LIS and MSPs, and conduct outreach activities aimed at preventing disease and promoting wellness.

2. Anticipated Total Priority Area Funding per Budget Period

ACL intends to make available, under this program announcement, grant awards for the three MIPPA priority areas. Funding will be distributed through a formula as identified in statute. The amounts allocated are based upon factors defined in statute and will be distributed to each priority area based on the formula. ACL will fund total project periods of up to one (1) year contingent upon availability of federal funds.

Priority Area 1—SHIP: $14.4 million in FY 2021 for state agencies that administer the SHIP Program.

Priority Area 2—AAA: $13.9 million in FY 2021 for State Units on Aging for Area Agencies on Aging.

Priority Area 3—ADRC: $4.7 million in FY 2020 for agencies that are established ADRCs who have received an ACL ADRC COVID grant.

III. Eligibility Criteria and Other Requirements

1. Eligible Applicants for MIPPA State Grants

Priority Area 1—SHIP: Only existing SHIP grant recipients or (SHIP-designated state agencies) are eligible to apply.

Priority Area 2—AAA: Only State Units on Aging (SUA) (or SUA-designated state agencies) are eligible to apply.

Priority Area 3—ADRC: Only agencies that are established ADRCs who have received an ACL ADRC COVID grant (or ADRC-designated state agencies) are eligible to apply.

Eligibility may change if future funding is available.

2. Cost Sharing or Matching Is Not Required

3. DUNS Number

All grant applicants must obtain and keep current a D-U-N-S number from Dun and Bradstreet. It is a nine-digit identification number, which provides unique identifiers of single business entities. The D-U-N-S number can be obtained from: https://iupdate.dnb.com/iUpdate/viewiUpdateHome.htm.

4. Intergovernmental Review

Executive Order 12372, Intergovernmental Review of Federal Programs, is not applicable to these grant applications.

IV. Submission Information

1. Application Kits

Application Kits/Program Instructions are available at www.grantsolutions.gov. Instructions for completing the application kit will be available on the site.

2. Submission Dates and Times

To receive consideration, applications must be submitted by 11:59 p.m. Eastern Time on June 1, 2021 through www.GrantSolutions.gov.

VII. Agency Contacts

Direct inquiries regarding programmatic issues to: Margaret Flowers, Phone: 202.795.7315, Email: Margaret.Flowers@acl.hhs.gov.

Dated: March 26, 2021.
Alison Barkoff,
Acting Administrator and Assistant Secretary for Aging.

[FR Doc. 2021-06742 Filed 3-31-21; 8:45 am]

BILLING CODE 4154-01-P